DEPARTMENT OF DEFENSE

Department of the Army

Western Hemisphere Institute for Security Cooperation Board of Visitors; Meeting

AGENCY: Department of the Army, DoD.

ACTION: Notice of open meeting.

SUMMARY: This notice sets forth the schedule and summary agenda for the meeting of the Board of Visitors (BoV) for the Western Hemisphere Institute for Security Cooperation (WHINSEC). Notice of this meeting is required under the Federal Advisory Committee Act (Pub. L. 92-463). This board was chartered on February 1, 2004 in compliance with the requirements set forth in title 10 U.S.C. 2166.

Dates: December 1-2, 2004.

Time: 8:45 a.m. to 3:30 p.m. (December 1) and 8:45 a.m. to 12 p.m. (December 2).

Location: Classroom 217, Building 35, 7011 Morrison Ave., Fort Benning, GA 31905.

Proposed Agenda: The WHINSEC BoV will receive new members and advisors, received updates on the status of actions taken on past BoV recommendations and an update on new activities and efforts since July 2004; look into any matters it deems important; meet with groups of WHINSEC faculty and students; and prepare for its Spring 2005 meeting in Washington, DC. The Board will also schedule its calendar for the remainder of 2005.

FOR FURTHER INFORMATION CONTACT: Shannon Russ, Executive Liaison, WHINSEC, Army G-3 at (703) 692-7419 or LTC Linda Gould, Deputy DFO and Chief, Latin American Branch, Army G-3 at (703) 692-7421.

SUPPLEMENTARY INFORMATION: The meeting is open to the public. Please note that the Board members will arrive at various times on November 30 and may use available time for individual member reviews of special interest items (yet to be determined) and will convene in plenary session on December 1, 2004. On December 1 the Board will adjourn for lunch between 12 p.m. and 1:30 p.m. The DFO has set aside 3 p.m. to 3:30 p..m. on December 1 for public comments by individuals and organizations. Public comment and presentations will be limited to two minutes each and members of the public desiring to make oral statements or presentations must inform the contact personnel, in writing. Requests must be received before Friday, November 26, 2004. Mail written presentations and requests to register to attend the public sessions to: Ms. Russ or LTC Gould at HQDA, DA0-G35-R (Room 3B473), 400 Army Pentagon, Washington, DC 20310. Public seating is limited, and is available on a first come, first served basis.

Dated: November 1, 2004.
Linda Gould,
USA, Alternate Designated Federal Officer, WHINSEC BoV.

[FR Doc. 04-24906 Filed 11-8-04; 8:45 am]

BILLING CODE 3710-08-M